DEPARTMENT OF HEALTH AND HUMAN SERVICES

Centers for Disease Control and Prevention

Implementation of Federal Financial Report—Upcoming Mandatory Use of the Federal Financial Report System in the eRA Commons

AGENCY: Centers for Disease Control and Prevention (CDC), Department of Health and Human Services.

ACTION: Notice.

Purpose

Beginning October 1, 2012, CDC will implement the expenditure data portion of the Federal Financial Report (FFR) in the Electronic Research Administration (eRA) Commons. The transition to use the FFR for reporting expenditure data includes new reporting dates for annual FFRs, and reporting of cumulative data only.

Background

The Office of Management and Budget has consolidated the Financial Status Report (FSR or SF-269/SF-269A) and the Federal Cash Transaction Report (FCTR or SF-272/SF-272A) into a single form known as the Federal Financial Report (FFR or SF-425/SF-425A). Since January 1, 2010, CDC grantees have been required to report cash transaction data via the Payment Management System (PMS) using the FFR cash transaction data elements. The FSR/FFR module allows grantees to electronically submit a statement of expenditures associated with their grant to the sponsor of the grant via eRA Commons. The new eRA Commons system was piloted with 5 Federal Demonstration Partnership (FDP) institutions that assisted CDC with feedback and testing during the Third Quarter of Fiscal Year 2011.

The Electronic Research Administration (eRA) was established by the National Institutes of Health (NIH) in response to the Government Paperwork Elimination Act requiring federal agencies to pursue electronic means of production. The intent of eRA is to provide for secure receipt, review and administration of electronic grants. The eRA Commons offers a meeting place for grantees tracking research grants administration information and applications and will now be used by grantees to submit their FFRs.

DATES: The effective date is October 1, 2012.

FOR FURTHER INFORMATION CONTACT: Technical Information Management Section (TIMS), Procurement and Grants Office, Centers for Disease Control and Prevention, 2920 Brandywine Rd, NE., Atlanta, GA 30341; telephone (770) 488-2700; email @ PGOTIM@CDC.GOV.

Implementation

All CDC Financial Expenditure data due on/after October 1, 2012 must be submitted using the FFR via the eFSR/FFR system in the eRA Commons. All Federal Reporting in the Payment Management System is unchanged. All new submissions should be prepared and submitted as FFRs.

CDC's implementation of the FFR retains a financial reporting period that coincides with the budget period of a particular project. However, the due date for annual FFRs will be 90 days after the end of the calendar quarter in which the budget period ends. Note that this is a change in due dates of annual FFRs and may provide up to 60 additional days to report, depending upon when the budget period end date falls within a calendar quarter. For example, if the budget period ends 1/30/2012, the annual FFR is due 6/30/2012 (90 days after the end of the calendar quarter of 3/31/2012).

Due dates of final reports will remain unchanged. The due date for final FFRs will continue to be 90 days after the project period end date.

Grantees must submit closeout reports in a timely manner. Unless the Grants Management Officer (GMO) of the awarding Institute or Center approves an extension, grantees must submit a final FFR, final progress report, and Final Invention Statement and Certification within 90 days of the end of grant period. Failure to submit timely and accurate final reports may affect future funding to the organization or awards under the direction of the same Project Director/Principal Investigator.

FFR (SF 425) instructions for CDC Grantees are now available at http://grants.nih.gov/grants/forms.htm. For further information, contact GrantsInfo@nih.gov. Additional resources concerning the eFSR/FFR system, including a User Guide and an on-line demonstration, can be found on the eRA Commons Support Page: http://www.cdc.gov/od/pgo/funding/grants/eramain.shtm.

Getting Started—eRA Commons Registration

The submission of FFRs to CDC will require organizations to register with eRA Commons (Commons) (https://commons.era.nih.gov/commons/). CDC recommends that this one time registration process be completed at least 2 weeks prior to the submittal date of a FFR submission.

Organizations may verify their current registration status by running the “List of Commons Registered Organizations” query found at: http://era.nih.gov/commons/. Organizations not yet registered can go to https://commons.era.nih.gov/commons/registration/registrationInstructions.jsp for instructions. It generally takes several days to complete this registration process. This registration is independent of Grants.gov and may be done at any time.

The individual designated as the Principle Investigator (PI) on the application must also be registered in the Commons. The PI must hold a PI account and be affiliated with the applicant organization. This registration must be done by an organizational official or their delegate who is already registered in the Commons. To register PIs in the Commons, refer to the eRA Commons User Guide found at: http://era.nih.gov/commons/index.cfm.

Inquiries

General questions concerning using the eRA Commons should be directed to the eRA Commons Helpdesk at: eRA Commons Help Desk Web: http://ithelpdesk.nih.gov/eRA/. (Preferred method of contact).

Toll-free: 1-866-504-9552

Phone: 301-402-7469

TTY: 301-451-5939

Hours: Mon-Fri, 7 a.m. to 8 p.m. Eastern Standard Time.

Email: commons@od.nih.gov.

Dated: June 5, 2012.
Alan A. Kotch,
Director, Procurement and Grants Office, Centers for Disease Control and Prevention.

[FR Doc. 2012-14049 Filed 6-8-12; 8:45 am]

BILLING CODE 4163-18-P